DEPARTMENT OF ENERGY

Federal Energy Regulatory Commission

[Docket No. EL00-90-000]

Morgan Stanley Capital Group Inc., Complainant, v. New York Independent System Operator, Inc. Respondent; Notice of Complaint

July 6, 2000.

Take notice that on July 5, 2000, Morgan Stanley Capital Group, Inc. (MSCG), tendered for filing a complaint pursuant to Section 206 of the Federal Power Act against the New York Independent System Operator, Inc. (NYISO) alleging that the NYISO has unlawfully denied power marketers such as MSCG access to Real-Time markets through its bidding restrictions excluding non-physical transactions in those NYISO markets. MSCG alleges that these bidding restrictions unduly discriminate against certain market participants and serve to distort the marketplace, restrict fluidity, and result in incorrect pricing signals.

Copies of the filing were served upon the NYISO and other interested parties.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before July 17, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before July 17, 2000.

David P. Boergers,
Secretary.

[FR Doc. 00-17558 Filed 7-11-00; 8:45 am]

BILLING CODE 6717-01-M